DEPARTMENT OF LABOR

Employment and Training Administration

[TA-W-56,298]

CDS Ensembles, Inc., Greer, SC; Notice of Termination of Investigation

Pursuant to Section 221 of the Trade Act of 1974, an investigation was initiated on April 8, 2005 in response to a petition filed by a company official on behalf of workers at CDS Ensembles, Inc., Greer, South Carolina.

The petitioner has requested that the petition be withdrawn. Consequently, the investigation has been terminated.

Signed in Washington, DC, this 27th day of April, 2005.
Elliott S. Kushner,
Certifying Officer, Division of Trade Adjustment Assistance.

[FR Doc. 05-9686 Filed 5-13-05; 8:45 am]

BILLING CODE 4510-13-M